DEPARTMENT OF TRANSPORTATION

Federal Highway Administration

TIFIA Program Public Meeting

AGENCY: Federal Highway Administration (FHWA), DOT.

ACTION: Notice of public meeting.

SUMMARY: The DOT seeks views on regulatory implementation of changes made by SAFETEA-LU to the TIFIA statute. All interested persons are invited to offer views at two public meetings.

DATES: The first public meeting will be held on April 21, 2006, in San Francisco, CA, beginning at 9 a.m. The second public meeting will be held on April 25, 2006, in New York, NY, beginning at 1 p.m.

ADDRESSES: The first public meeting will be held at the Omni San Francisco Hotel, 500 California Street, San Francisco, CA 94104. The second public meeting will be held at the Marriott Financial Center, 85 West Street, New York, NY 10006.

FOR FURTHER INFORMATION CONTACT: Robert Clarke Brown, (202) 366-6813, Robert.C.Brown@fhwa.dot.gov; Mark Sullivan, (202) 366-5785, Mark.Sullivan@fhwa.dot.gov. TIFIA Joint Program Office, Federal Highway Administration, Department of Transportation, 400 Seventh Street, SW., Washington, DC 20590.

SUPPLEMENTARY INFORMATION:

Background

The Safe, Accountable, Flexible, Efficient Transportation Equity Act: a Legacy for Users (SAFETEA-LU) (Pub. L. 109-59, 119 Stat. 1144), enacted in 2005, made certain changes to the Transportation Infrastructure Finance and Innovation Act (TIFIA), originally established in 1998 by the Transportation Equity Act for the 21st Century (TEA-21). The Department of Transportation is beginning a rulemaking to implement those 2005 statutory changes, as well as to make other changes to the current TIFIA rule. The DOT plans to publish a notice of proposed rulemaking later this year. Prior to publication of the proposed rule, the DOT seeks information and views from the public that might assist it in developing the proposed rule.

Public Meetings

The DOT invites participation in these meetings by all those interested in the TIFIA program, including but not limited to public officials, private citizens, bankers, financial advisors, attorneys, and officials of rating agencies, bond insurers, project developers and engineering and construction companies. Views on all aspects of TIFIA regulatory implementation, both changes required by the 2005 SAFTEA-LU amendments and recommended or needed changes to the existing rule, are welcome. Meeting proceedings will be recorded. Written submissions are welcome, although not required for participation. The DOT is particularly interested in comments pertaining to the changes SAFETEA-LU made in the TIFIA statute.

The DOT expects each meeting to last approximately three hours. No pre-registration is required for participation.

Issued on: April 10, 2006.
A. Thomas Park,
Chief Financial Officer.

[FR Doc. E6-5594 Filed 4-13-06; 8:45 am]

BILLING CODE 4910-22-P